Proclamation 10276 of October 1, 2021

National Community Policing Week, 2021

By the President of the United States of America

A Proclamation

Community policing—the practice of law enforcement professionals working side-by-side with members of their communities to keep neighborhoods safe—is a critical and proven tool used by law enforcement agencies across our Nation to improve public safety and forge strong, valuable relationships. During National Community Policing Week, we recommit to building bonds of trust between our law enforcement officers and the communities they serve and encourage community policing practices across our Nation.

America's law enforcement officers play an essential role in protecting our communities and enforcing our laws. Every time an officer pins on their badge and walks out their front door, the loved ones they wave goodbye to are forced to wonder if they will return home safely. This week and every week, we recognize the bravery and dedication of our peace officers who put themselves on the line each and every day to protect and serve their communities.

We also recognize the role that all community members play in advancing public safety. As our country continues to reckon with a long and painful history of systemic racism—as well as the ongoing challenges of social and economic injustice, the COVID-19 pandemic, mental illness, homelessness, and substance abuse—we must think broadly, conscientiously, and creatively about the future of effective policing and how to foster strong police-community partnerships. Evidence and experience tell us that strong neighborhood relationships, the use of problem-solving to address crime systematically, and improvements to policy and training—key tenets of community policing—are all tools that help make our communities safer. My Administration is using programs such as the Department of Justice's Project Safe Neighborhoods to bring together law enforcement and community stakeholders in an effort to develop local solutions to help prevent violent crime.

I have long been an advocate for community policing, just as my late son Beau was when he served as Attorney General of Delaware—because he knew, as I know, that it works. It is especially important now, as State and local governments across the country continue to climb back from the once-in-a-century economic crisis triggered by COVID-19 last year. With their budgets decimated, countless communities were forced to cut essential services in 2020, including law enforcement and social services, just as a second public health epidemic of gun violence threatened the safety of their cities and towns. To help keep our communities safe, my Administration has provided local leaders with guidance on how American Rescue Plan funds can be used to help reduce violent crime and ensure public safety. I am also committed to investing in mental health services, drug treatment and prevention programs, services for people experiencing homelessness, and community violence intervention. Community violence intervention programs are vital to preventing violence before it occurs, and they have a proven track record of reducing crime by up to 60 percent in cities across our Nation.

My Administration is also working to ensure that police departments have the resources they need to serve their communities safely and effectively. Communities experiencing a surge in gun violence can make use of $350 billion in State and local funding included in the American Rescue Plan to hire law enforcement officers and advance community policing strategies. I have also proposed an additional $300 million in my budget for next year to support community policing across our country. As I seek that additional funding, the Office of Community Oriented Policing Services at the Department of Justice will continue to provide grants for community policing pilot projects and hiring local police officers—including funding prioritization for officers who will live in the communities they serve. These new resources will allow departments to implement community policing strategies and strengthen police-community partnerships.

At its core, community policing is about building trust and mutual respect between police and communities—important goals that can only be reached when we have accountability and faith in our justice system. That's why I strongly support the George Floyd Justice in Policing Act, which would deliver meaningful accountability, improved transparency, and the resources necessary to support community policing and build trust between law enforcement and the communities they serve. Although that bill is not yet law, my Administration will continue to consult with the law enforcement and civil rights communities to achieve reforms that advance safety, dignity, and equal justice for all Americans.

NOW, THEREFORE, I, JOSEPH R. BIDEN JR., President of the United States of America, by virtue of the authority vested in me by the Constitution and the laws of the United States, do hereby proclaim October 3 through October 9, 2021, as National Community Policing Week. I call upon law enforcement agencies, elected officials, and all Americans to observe this week by recognizing ways to improve public safety, build trust, and strengthen community relationships.

IN WITNESS WHEREOF, I have hereunto set my hand this first day of October, in the year of our Lord two thousand twenty-one, and of the Independence of the United States of America the two hundred and forty-sixth.

[FR Doc. 2021-21953

Filed 10-5-21; 8:45 am]

Billing code 3395-F2-P